DEPARTMENT OF ENERGY

Federal Energy Regulatory Commission

Combined Notice of Filings #1

November 9, 2009.

Take notice that the Commission received the following electric corporate filings:

Docket Numbers: EC10-15-000.

Applicants: West Georgia Generating Company, L.L.C, DeSoto County Generating Company, LLC, Broadway Gen Funding, LLC, Southern Power Company.

Description: West Georgia Generating Co, LLC et al. (Joint Applicants) submits the joint application for authorization under Section 203 of the Federal Power Act and Request for Expedited and Privileged Treatment.

Filed Date: 11/02/2009.

Accession Number: 20091105-0154.

Comment Date: 5 p.m. Eastern Time on Monday, November 23, 2009.

Take notice that the Commission received the following electric rate filings:

Docket Numbers: ER98-4109-005; ER01-1178-006; ER03-175-009; ER03-394-007; ER03-427-007; ER04-170-009; ER07-265-012; ER08-100-011; ER09-1453-001; ER99-3426-011.

Applicants: El Dorado Energy, LLC; Sempra Generation; Termoelectrica U.S. LLC; Elk Hills Power, LLC; Mesquite Power, LLC; MxEnergy Electric Inc.; Sempra Energy Solutions LLC; Sempra Energy Trading LLC; Gateway Energy Services Corporation; San Diego Gas & Electric Company.

Description: Notice of Non-Material Changes in Status of Sempra Energy et al.

Filed Date: 11/02/2009.

Accession Number: 20091102-5143.

Comment Date: 5 p.m. Eastern Time on Monday, November 23, 2009.

Docket Numbers: ER01-3121-021; ER02-2085-016; ER02-417-020; ER02-418-020; ER03-1326-019; ER03-296-023; ER03-416-023; ER03-951-023; ER04-94-020; ER05-1146-020; ER05-1262-022; ER05-332-020; ER05-365-020; ER05-481-021; ER06-1093-018; ER06-200-019; ER07-1378-012; ER07-195-015; ER07-242-014; ER07-254-013; ER07-287-013; ER07-460-010; ER08-387-010; ER08-912-007; ER08-933-007; ER09-1284-002; ER09-1285-001; ER09-1723-001; ER09-279-003; ER09-281-002; ER09-282-003; ER09-30-004; ER09-31-004; ER09-32-005; ER09-382-003.

Applicants: Klamath Energy LLC; Northern Iowa Windpower LLC; Phoenix Wind Power LLC; Klamath Generation LLC; Colorado Green Holdings, LLC; Flying Cloud Power Partners, LLC; Klondike Wind Power LLC; Moraine Wind LLC; Mountain View Power Partners III, LLC; Shiloh I Wind Project LLC; Flat Rock Windpower LLC; Klondike Wind Power II LLC; Elk River Windfarm LLC; Trimont Wind I LLC; Flat Rock Windpower II LLC; Big Horn Wind Project LLC; Providence Heights Wind, LLC; Locust Ridge Wind Farm, LLC; MinnDakota Wind LLC; Casselman Windpower, LLC; Klondike Wind Power III LLC; Dillon Wind LLC; Atlantic Renewables Projects II LLC; Iberdrola Renewables MBR Sellers; Lempster Wind, LLC; Rugby Wind, LLC; Streator-Cayuga Ridge Wind Power, LLC; Dry Lake Wind Power, LLC; Buffalo Ridge I LLC; Pebble Springs Wind, LLC; Moraine Wind II LLC; Elm Creek Wind, LLC; Farmers City Wind, LLC; Barton Windpower LLC; Hay Canyon Wind LLC.

Description: Quarterly Report pursuant to 18 C.F.R. 35.42(d) of Iberdrola Renewables MBR Sellers.

Filed Date: 10/30/2009.

Accession Number: 20091030-5109.

Comment Date: 5 p.m. Eastern Time on Friday, November 20, 2009.

Docket Numbers: ER03-879-007; ER03-880-007; ER03-882-007.

Applicants: D.E. Shaw Plasma Trading, LLC, D.E. Shaw & Co. Energy, LLC, D.E. Shaw Plasma Power, LLC.

Description: Notification of Change in Status of D.E. Shaw Plasma Trading, LLC, D.E. Shaw & Co. Energy, LLC and D.E. Shaw Plasma Power, LLC .

Filed Date: 10/30/2009.

Accession Number: 20091030-5104.

Comment Date: 5 p.m. Eastern Time on Friday, November 20, 2009.

Docket Numbers: ER04-947-008; ER08-1297-004; ER02-2559-010; ER01-1071-015; ER02-669-009; ER02-2018-010; ER01-2074-009; ER08-1293-004; ER08-1294-004; ER05-222-006; ER00-2391-010; ER98-2494-013; ER97-3359-015; ER06-9-010; ER09-902-002; ER05-487-006; ER04-127-007; ER03-34-014; ER98-3511-013; ER02-1903-011; ER99-2917-011; ER06-1261-009; ER03-179-008; ER03-1104-011; ER03-1105-011; ER03-1332-005; ER09-138-002; ER08-197-008; ER03-1333-006; ER03-1103-006; ER01-838-009; ER03-1025-005; ER02-2120-007; ER05-714-004; ER01-1972-009; ER98-2076-017; ER03-155-009; ER03-623-009; ER09-1462-001; ER08-250-005; ER07-1157-005; ER04-290-005; ER02-256-002; ER09-988-003; ER09-832-002; ER09-989-003; ER09-990-002; ER05-236-007; ER04-187-007; ER09-1297-001; ER07-174-009; ER08-1296-004; ER07-875-004; ER02-2166-009; ER09-901-002; ER01-2139-013; ER03-1375-006; ER08-1300-004; ER09-900-002; ER00-3068-009; ER98-3563-013; ER9803564-014.

Applicants: POSDEF Power Company, LP; Ashtabula Wind, LLC; Backbone Mountain Windpower, LLC; Badger Windpower LLC; Bayswater Peaking Facility, LLC; Blythe Energy, LLC; Calhoun Power Company, LLC; Crystal Lake Wind, LLC; Crystal Lake Wind II, LLC; Diablo Winds, LLC; Doswell Limited Partnership; ESI Vansycle Partners, LP; Florida Power & Light Company; FPL Energy Burleigh County Wind, LLC; FPL Energy Cabazon Wind, LLC; FPL Energy Cowboy Wind, LLC; FPL Energy Green Power Wind, LLC; FPL Energy Hancock County Wind, LLC; FPLE Maine Hydro, LLC; FPL Energy Marcus Hook, L.P.; FPL Energy MH50, LP; FPL Energy Mower County, LLC; FPL Energy New Mexico Wind, LLC; FPL Energy North Dakota Wind, LLC; FPL Energy North Dakota Wind, LLC; FPL Energy Oklahoma Wind, LLC; FPL Energy Oliver Wind I, LLC; FPL Energy Oliver Wind II, LLC; FPL Energy Sooner Wind, LLC; FPL Energy South Dakota Wind, LLC; FPL Energy Vansycle LLC; FPL Energy Wyman LLC; FPL Energy Wyoming, LLC; FPLE Rhode Island State Energy, LP; Gexa Energy LLC; Gray County Wind Energy, LLC; Hawkeye Power Partners, LLC; High Winds, LLC; Jamaica Bay Peaking Facility, LLC; Lake Benton Power Partners II, LLC; Langdon Wind, LLC; Logan Wind Energy LLC; Meyersdale Windpower, LLC; Mill Run Windpower, LLC; NextEra Energy Duane Arnold, LLC; NextEra Energy Power Marketing, LLC; NextEra Energy Point Beach, LLC; NextEra Energy SeaBrook, LLC; Northeast Energy Associates, LP; North Jersey Energy Associates, a L.P.; Northern Colorado Wind Energy, LLC; Osceola Windpower, LLC; Osceola Windpower II, LLC; Peetz Table Wind Energy, LLC; Pennsylvania Windfarms, Inc.; Sky River, LLC; Somerset Windpower, LLC; Waymart Wind Farm L.P.; Story Wind, LLC; Victory Garden Phase IV, LLC; FPL Energy Cape, LLC; FPL Energy Wyman, LLC; FPL Energy Wyman IV, LLC.

Description: FPL Companies Site Control 2009 Third Quarterly Report.

Filed Date: 10/30/2009.

Accession Number: 20091030-5191.

Comment Date: 5 p.m. Eastern Time on Friday, November 20, 2009.

Docket Numbers: ER05-1469-003; ER01-2317-009; ER07-415-004; ER08-1418-002; ER09-1061-001; ER97-324-016; ER97-3834-022; ER98-3026-012; ER97-3834-022.

Applicants: DTE East China, LLC; Metro Energy, LLC; DTE Pontiac North, LLC; DTE Stoneman, LLC; Woodland Biomass Power Ltd.; Detroit Edison Company; DTE Energy Trading, Inc.; DTE Edison America, Inc.; DTE River Rouge No. 1, LLC.

Description: Quarterly Report of The Detroit Edison Company Pursuant to 18 C.F.R. Sec. 35.42(d).

Filed Date: 11/02/2009.

Accession Number: 20091102-5177.

Comment Date: 5 p.m. Eastern Time on Monday, November 23, 2009.

Docket Numbers: ER07-412-003; ER09-1099-002.

Applicants: Empire Generating Co, LLC, ECP Energy I, LLC.

Description: Notice of Non-Material Change in Status of Empire Generating Co, LLC and ECP Energy I, LLC.

Filed Date: 10/30/2009.

Accession Number: 20091030-5192.

Comment Date: 5 p.m. Eastern Time on Friday, November 20, 2009.

Docket Numbers: ER08-1404-002.

Applicants: Midwest Independent Transmission System Operator, Inc.

Description: Midwest ISO submits Notice of Cancellation pursuant to the requirements of Order No 614.

Filed Date: 11/02/2009.

Accession Number: 20091103-0168.

Comment Date: 5 p.m. Eastern Time on Monday, November 23, 2009.

Docket Numbers: ER09-1286-003.

Applicants: Elizabethtown Energy, LLC.

Description: Notice of Non-Material Change in Status of Elizabethtown Energy, LLC.

Filed Date: 11/05/2009.

Accession Number: 20091105-5109.

Comment Date: 5 p.m. Eastern Time on Friday, November 27, 2009.

Docket Numbers: ER09-1287-003.

Applicants: Lumberton Energy, LLC.

Description: Notice of Non-Material Change in Status of Lumberton Energy, LLC.

Filed Date: 11/05/2009.

Accession Number: 20091105-5118.

Comment Date: 5 p.m. Eastern Time on Friday, November 27, 2009.

Docket Numbers: ER09-1655-002.

Applicants: Fowler Ridge II Wind Farm LLC.

Description: Fowler Ridge II Wind Farm, LLC submits application seeking acceptance of its proposed FERC Electric Tariff, Original Volume 1.

Filed Date: 11/05/2009.

Accession Number: 20091106-0088.

Comment Date: 5 p.m. Eastern Time on Friday, November 27, 2009.

Docket Numbers: ER09-1688-001.

Applicants: NorthWestern Corporation.

Description: NorthWestern Corp submits executed Large Generator Interconnection Agreement.

Filed Date: 11/05/2009.

Accession Number: 20091105-0134.

Comment Date: 5 p.m. Eastern Time on Friday, November 27, 2009.

Docket Numbers: ER10-202-000.

Applicants: Pacific Gas and Electric Company.

Description: Pacific Gas and Electric Company submits a service agreement wholesale distribution service and interconnection agreement with Shelter Cove Resort Improvement District No. 1 etc.

Filed Date: 11/02/2009.

Accession Number: 20091103-0060.

Comment Date: 5 p.m. Eastern Time on Monday, November 23, 2009.

Docket Numbers: ER10-209-000.

Applicants: Commonwealth Edison Company, Commonwealth Edison Co. of Indiana, Inc.

Description: Commonwealth Edison Company submits Original Sheet No. 1 to FERC Electric Tariff, Original Volume No. 7.

Filed Date: 11/03/2009.

Accession Number: 20091104-0033.

Comment Date: 5 p.m. Eastern Time on Tuesday, November 24, 2009.

Docket Numbers: ER10-212-000.

Applicants: High Sierra Power Marketing, LLC.

Description: High Sierra Power Marketing, LLC submits Notice of Cancellation of its market based rate tariff, FERC Electric Tariff, Original Volume 1, effective 11/5/09.

Filed Date: 11/04/2009.

Accession Number: 20091105-0166.

Comment Date: 5 p.m. Eastern Time on Wednesday, November 25, 2009.

Docket Numbers: ER10-213-000.

Applicants: Sierra Power Asset Marketing, LLC.

Description: Sierra Power Asset Marketing, LLC submits Notice of Cancellation of its market based rate tariff, FERC Electric Tariff, Original Volume 1, effective 11/5/09.

Filed Date: 11/04/2009.

Accession Number: 20091105-0165.

Comment Date: 5 p.m. Eastern Time on Wednesday, November 25, 2009.

Docket Numbers: ER10-214-000.

Applicants: Xcel Energy Services Inc.

Description: Southwestern Public Service Company submits proposed Notice of Cancellation of the Interconnection Agreement with West Texas Municipal Power Agency.

Filed Date: 11/04/2009.

Accession Number: 20091105-0164.

Comment Date: 5 p.m. Eastern Time on Wednesday, November 25, 2009.

Docket Numbers: ER10-215-000.

Applicants: Southwest Power Pool, Inc.

Description: Southwest Power Pool, Inc submits an executed Transmission Interconnection Agreement with West Texas Municipal Power Agency.

Filed Date: 11/04/2009.

Accession Number: 20091105-0163.

Comment Date: 5 p.m. Eastern Time on Wednesday, November 25, 2009.

Docket Numbers: ER10-216-000.

Applicants: Entergy Services, Inc.

Description: Entergy Louisiana, LLC et al submits Second Revised Service Agreement 453, which is a revised and amended interconnection and operating agreement.

Filed Date: 11/04/2009.

Accession Number: 20091105-0162.

Comment Date: 5 p.m. Eastern Time on Wednesday, November 25, 2009.

Docket Numbers: ER10-218-000.

Applicants: Sierra Pacific Power Company.

Description: Sierra Pacific Power Company submits a non conforming long term Transmission Service Agreement.

Filed Date: 11/05/2009.

Accession Number: 20091105-0135.

Comment Date: 5 p.m. Eastern Time on Friday, November 27, 2009.

Docket Numbers: ER10-219-000.

Applicants: Southern Company Services, Inc.

Description: Southern Company Services, as agent for Alabama Power Company et al submits an amendment to the network integration transmission service agreement with PowerSouth Energy Cooperative.

Filed Date: 11/05/2009.

Accession Number: 20091105-0136.

Comment Date: 5 p.m. Eastern Time on Friday, November 27, 2009.

Docket Numbers: ER10-220-000.

Applicants: Xcel Energy Services Inc.

Description: Northern States Power Company submits proposed Notice of Cancellation of the Electric Service Agreement etc.

Filed Date: 11/05/2009.

Accession Number: 20091105-0138.

Comment Date: 5 p.m. Eastern Time on Friday, November 27, 2009.

Docket Numbers: ER10-221-000.

Applicants: ISO New England Inc.

Description: Western Massachusetts Electric Company et al submits notice canceling the Standard Large Generator Interconnection Agreement etc.

Filed Date: 11/05/2009.

Accession Number: 20091105-0137.

Comment Date: 5 p.m. Eastern Time on Friday, November 27, 2009.

Docket Numbers: ER10-222-000.

Applicants: Westar Energy, Inc.

Description: Kansas Gas and Electric Company submits Notice of Cancellation of a Generating Municipal Electric Service Agreement.

Filed Date: 11/05/2009.

Accession Number: 20091105-0139.

Comment Date: 5 p.m. Eastern Time on Friday, November 27, 2009.

Docket Numbers: ER10-223-000.

Applicants: Southern California Edison Company.

Description: Southern California Edison Company submits Large Generator Interconnection Agreement.

Filed Date: 11/05/2009.

Accession Number: 20091105-0140.

Comment Date: 5 p.m. Eastern Time on Friday, November 27, 2009.

Docket Numbers: ER10-229-000.

Applicants: Central Maine Power Company.

Description: Central Maine Power Company, Schedule 20A Service Providers et al submits amendments to Schedule 20A of Section II of the ISO New England, Inc Transmission, Markets and Services Tariff.

Filed Date: 11/06/2009.

Accession Number: 20091106-0108.

Comment Date: 5 p.m. Eastern Time on Friday, November 27, 2009.

Take notice that the Commission received the following electric securities filings:

Docket Numbers: ES10-8-000.

Applicants: Alliant Energy Corporate Services, Inc.

Description: Interstate Power and Light Company Application for authorization to issue securities and request for waiver of competitive bidding requirements.

Filed Date: 10/30/2009.

Accession Number: 20091030-5176.

Comment Date: 5 p.m. Eastern Time on Friday, November 20, 2009.

Take notice that the Commission received the following public utility holding company filings:

Docket Numbers: PH08-19-000.

Applicants: ITC Holdings Corp.

Description: FERC-65B Joint Waiver Notification of ITC Holdings Corp., et al.

Filed Date: 11/06/2009.

Accession Number: 20091106-5139.

Comment Date: 5 p.m. Eastern Time on Friday, November 27, 2009.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the web site that enables subscribers to receive e-mail notification when a document is added to a subscribed dockets(s). For assistance with any FERC Online service, please e-mail FERCOnlineSupport@ferc.gov, or call (866) 208-3676 (toll free). For TTY, call (202) 502-8659.

Nathaniel J. Davis, Sr.,
Deputy Secretary.

[FR Doc. E9-27480 Filed 11-16-09; 8:45 am]

BILLING CODE 6717-01-P